DEPARTMENT OF JUSTICE

Notice of Lodging Proposed Consent Decree

In accordance with Departmental Policy, 28 CFR 50.7, notice is hereby given that a proposed Consent Decree in United States v. Henkemeyer (D. Minn.), Civil Action No. 0:08-cv-05030-PJS-RLE, was lodged with the United States District Court for the District of Minnesota on August 27, 2008.

This proposed Consent Decree concerns a complaint filed by the United States against Gerome G. Henkemeyer, Henkemeyer Landfill, Inc., and Riley Bros. Construction, Inc. (collectively “the Defendants”) pursuant to section 309(b) and (d) of the Clean Water Act (“CWA”), 33 U.S.C. 1319(b) and (d), to obtain injunctive relief from and impose civil penalties against the Defendants for violating the Clean Water Act by discharging pollutants without a permit into waters of the United States. The proposed Consent Decree resolves these allegations by requiring the Defendants to restore the impacted areas, perform mitigation, and pay civil penalties.

The Department of Justice will accept written comments relating to this proposed Consent Decree for thirty (30) days from the date of publication of this Notice. Please address comments to Friedrich A.P. Siekert, Office of the United States Attorney for the District of Minnesota, 600 United States Courthouse, 300 South Fourth Street, Minneapolis, MN 55415, and refer to United States v. Henkemeyer (D. Minn.), DJ #90-5-1-1-17415.

The proposed Consent Decree may be examined at the Clerk's Office, United States District Court for the District of Minnesota, 202 United States Courthouse, 300 South Fourth Street, Minneapolis, MN 55415. In addition, the proposed Consent Decree may be viewed at http://www.usdoj.gov/enrd/Consent_Decrees.html.

Cherie Rogers,
Assistant Section Chief, Environmental Defense Section, Environment & Natural Resources Division.

[FR Doc. E8-20258 Filed 9-2-08; 8:45 am]

BILLING CODE 4410-15-P